DEPARTMENT OF THE INTERIOR

National Park Service

[NPS-WASO-NRNHL-22712; PPWOCRADI0, PCU00RP14.R50000]

National Register of Historic Places; Notification of Pending Nominations and Related Actions

AGENCY: National Park Service, Interior.

ACTION: Notice.

SUMMARY: The National Park Service is soliciting comments on the significance of properties nominated before December 31, 2016, for listing or related actions in the National Register of Historic Places.

DATES: Comments should be submitted by March 21, 2017.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before December 31, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

FLORIDA

Leon County

Fire Station No. 2, 224 E. 6th St., Tallahassee, SG100000642

Wakulla County

Bo Lynn's Grocery, 850 Port Leon Dr., St. Marks, SG100000643

NEW YORK

Chemung County

Jones, John W., Court, 603-657 Dickinson St., Elmira, SG100000645

Dutchess County

DuBois Farmhouse, 6 Greenvale Farms Rd., Poughkeepsie, SG100000646

Soldiers' Memorial Fountain and Park, 120 Market St., Poughkeepsie, SG100000647

Rensselaer County

International Shirt and Collar Company, 2 River St., Troy, SG100000648

Suffolk County

Bridgehampton Presbyterian Church, 2429 Montauk Hwy., Bridgehampton, SG100000649

Washington County

Moss Street Cemetery, 3097 US 4, Hudson Falls vicinity, SG100000650

An owner objection received for the following resource(s):

CALIFORNIA

Los Angeles County

Mitchell Camera Corporation—Studio One, 661-665 N. Robertson Blvd. & 652 N. La Peer Dr., West Hollywood, SG100000627

An additional documentation has been received for the following resource(s):

MISSOURI

Pettis County

Sedalia Commercial Historic District (Boundary Increase), 700-712 S. Ohio, 200 S. Moniteau, 101-108 W. Pacific, 104-220 W. Main, 208-400 W. 2nd, 200 W. 4th, 102-120 E. 5th., Sedalia, AD10000277

Authority: 60.13 of 36 CFR part 60.

Dated: January 6, 2017.
J. Paul Loether,
Chief, National Register of Historic Places/National Historic Landmarks Program.

[FR Doc. 2017-04238 Filed 3-3-17; 8:45 am]

BILLING CODE 4312-52-P